DEPARTMENT OF THE TREASURY

Office of the Comptroller of the Currency

Office of Thrift Supervision

BOARD OF GOVERNORS OF THE FEDERAL RESERVE SYSTEM

FEDERAL DEPOSIT INSURANCE CORPORATION

Agency Information Collection Activities; Proposed Revision of Information Collection; Comment Request

AGENCIES: Office of the Comptroller of the Currency (OCC), Treasury; Board of Governors of the Federal Reserve System (Board); Federal Deposit Insurance Corporation (FDIC); and Office of Thrift Supervision (OTS), Treasury.

ACTION: Joint notice and request for comment.

SUMMARY: The OCC, Board, FDIC, and OTS (Agencies), as part of their continuing effort to reduce paperwork and respondent burden, invite the general public and other Federal agencies to comment on proposed revisions to a continuing information collection, as required by the Paperwork Reduction Act of 1995. The Agencies may not conduct or sponsor, and the respondent is not required to respond to, an information collection unless it displays a currently valid Office of Management and Budget (OMB) control number. The Agencies are soliciting comments on proposed revisions to the information collection titled: “Interagency Bank Merger Act Application.” Additionally, the OCC is making other clarifying changes to the Comptroller's Corporate Manual.

DATES: You should submit written comments by March 11, 2002.

ADDRESSES: Interested parties are invited to submit comments to any or all of the Agencies. All comments, which should refer to the OMB control number, will be shared among the Agencies:

OCC: Office of the Comptroller of the Currency, Public Information Room, 250 E Street, SW, Mail Stop 1-5, Attention: 1557-0014 (BMA), Washington, DC 20219. You may make an appointment to inspect and photocopy comments at the same location by calling (202) 874-5043. In addition, you may fax your comments to (202) 874-4448 or e-mail them to regs.comments@occ.treas.gov.

Board: Written comments may be mailed to Jennifer J. Johnson, Secretary, Board of Governors of the Federal Reserve System, 20th Street and Constitution Avenue, NW, Washington, DC 20551. However, because paper mail in the Washington area and at the Board of Governors is subject to delay, please consider submitting your comments by electronic mail to regs.comments@federalreserve.gov, or faxing them to the Office of the Secretary at 202-452-3819 or 202-452-3102. Comments addressed to Ms. Johnson may also be delivered to the Board's mail facility in the West Courtyard between 8:45 a.m. and 5:15 p.m., located on 21st Street between Constitution Avenue and C Street, NW. Members of the public may inspect comments in room M-P-500 between 9 a.m. and 5 p.m., on weekdays pursuant to 261.12, except as provided in 261.14, of the Board's Rules Regarding Availability of Information, 12 CFR 261.12 and 261.14.

FDIC: Tamara R. Manly, Management Analyst (Regulatory Analysis), Office of Executive Secretary, Room F-4058, Attention: Comments/OES, Federal Deposit Insurance Corporation, 550 17th Street, NW, Washington, DC 20429. All comments should refer to “Interagency Bank Merger Act Application.” Comments may be hand-delivered to the guard station at the rear of the 550 17th Street Building (located on F Street), on business days between 7 a.m. and 5 p.m. [FAX number (202) 898-3838; Internet address: comments@fdic.gov]. Comments may be inspected and photocopied in the FDIC Public Information Center, Room 100, 801 17th Street, NW, Washington, DC between 9 a.m. and 4:30 p.m. on business days.

A copy of the comments may also be submitted to the OMB desk officer for the agencies: Alexander T. Hunt, Office of Information and Regulatory Affairs, Office of Management and Budget, New Executive Office Building, Room 3208, Washington, DC 20503.

OTS: Information Collection Comments, Chief Counsel's Office, Office of Thrift Supervision, 1700 G Street, NW, Washington, DC 20552, Attention: 1550-0016, FAX Number (202) 906-6518, or e-mail to infocollection.comments@ots.treas.gov. OTS will post comments and the related index on the OTS Internet Site at www.ots.treas.gov. In addition, interested persons may inspect comments at the Public Reference Room, 1700 G Street, NW, by appointment. To make an appointment, call (202) 906-5922, send an e-mail to publicinfo@ots.treas.gov, or send a facsimile transmission to (202) 906-7755.

FOR FURTHER INFORMATION CONTACT: You may request additional information from:

OCC: Jessie Dunaway, OCC Clearance Officer, or Camille Dixon, (202) 874-5090, Legislative and Regulatory Activities Division, Office of the Comptroller of the Currency, 250 E Street, SW., Washington, DC 20219. For subject matter information, you may contact Cheryl Martin at (202) 874-4614, Licensing, Policy, and Systems, Licensing Department, Office of the Comptroller of the Currency, 250 E Street, SW., Washington, DC 20219.

Board: Mary M. West, Federal Reserve Board Clearance Officer, (202) 452-3829, Division of Research and Statistics, Board of Governors of the Federal Reserve System, 20th and C Streets, NW., Washington, DC 20551. Telecommunications Device for the Deaf (TDD) users may contact Capria Mitchell (202) 872-4984, Board of Governors of the Federal Reserve System, 20th and C Streets, NW., Washington, DC 20551.

FDIC: Tamara R. Manly, Management Analyst (Regulatory Analysis), (202) 898-7453, Office of the Executive Secretary, Federal Deposit Insurance Corporation, 550 17th Street, NW., Washington, DC 20429.

OTS: Sally W. Watts, OTS Clearance Officer, (202) 906-7380; Frances C. Augello, Senior Counsel, Business Transactions Division, (202) 906-6151; Patricia D. Goings, Regulatory Analyst, Examination Policy, (202) 906-5668; or Damon C. Zaylor, Regulatory Analyst, Examination Policy, (202) 906-6787, Office of Thrift Supervision, 1700 G Street, NW, Washington, DC 20552.

SUPPLEMENTARY INFORMATION: Proposal to extend for three years, with revision, the following currently approved collection of information:

Report Title: Interagency Bank Merger Act Application.

OCC's Title: Comptroller's Corporate Manual (Manual). The specific portions of the Manual covered by this notice are those that pertain to the Business Combinations booklet of the Manual and various portions to which the OCC is making technical and clarifying changes.

OMB Numbers:

OCC: 1557-0014.

Board: 7100-0171.

FDIC: 3064-0015.

OTS: 1550-0016.

Form Numbers:

OCC: None.

Board: FR 2070.

FDIC: 6220/01 and 6220/07.

OTS: 1639.

Affected Public: Individuals or households; Businesses or other for-profit.

Type of Review: Review of a currently approved collection.

Estimated Number of Respondents:

OCC: Nonaffiliate—120; Affiliate—260.

Board: Nonaffiliate—57; Affiliate—79.

FDIC: Nonaffiliate—200; Affiliate—150.

OTS: Nonaffiliate—16; Affiliate—0.

Frequency of Response: On occasion.

Estimated Annual Burden Hours per Response:

OCC: Nonaffiliate—30; Affiliate—18.

Board: Nonaffiliate—30; Affiliate—18.

FDIC: Nonaffiliate—30; Affiliate—18.

OTS: Nonaffiliate—30; Affiliate—18.

Estimated Total Annual Burden Hours:

OCC: Nonaffiliate—3,600; Affiliate—4,680. Total: 8,280 burden hours.

Board: Nonaffiliate—1,710; Affiliate—1,422. Total: 3,132 burden hours.

FDIC: Nonaffiliate—6,000; Affiliate—2,700. Total: 8,700 burden hours.

OTS: Nonaffiliate—480; Affiliate—0. Total: 480 burden hours.

General Description of Report: This information collection is mandatory. 12 U.S.C. 1828(c) (OCC, FDIC, and OTS), and 12 U.S.C. 321, 1828(c), and 4804 (Board). Except for select sensitive items, this information collection is not given confidential treatment. Small businesses, that is, small institutions, are affected.

Abstract: This submission covers a revision to the Agencies' merger application form for both affiliated and nonaffiliated institutions. The form's title is the Interagency Bank Merger Act Application. The Agencies need the information to ensure that the proposed transactions are permissible under law and regulation and are consistent with safe and sound banking practices. The Agencies are required, under the Bank Merger Act, to consider financial and managerial resources, future prospects, convenience and needs of the community, community reinvestment, and competition.

Some agencies collect limited supplemental information in certain cases. For example, the OCC and OTS collect information regarding CRA commitments, the Federal Reserve collects information on debt servicing from certain institutions, and the FDIC requires additional information on the competitive impact of proposed mergers.

Current Actions: Section 307(c) of the Gramm-Leach-Bliley Act (GLBA) requires the appropriate Agency to consult with the appropriate state insurance regulator prior to making any determination relating to the initial affiliation of, or the continuing affiliation of, a depository institution with a company engaged in insurance activities. As a result, the Agencies propose to add an item to the form to collect information on the name of the affiliated insurance company; a description of its insurance activities; each state and the lines of business in each state in which the company holds, or will hold, an insurance license; and the state where the company holds a resident license or charter, as applicable. Additionally, the General Instructions contain technical corrections to make them uniform with the proposed revisions to the “Interagency Charter and Federal Deposit Insurance Application” form.

Further, the OCC is making a change to its Business Combinations booklet of the Manual by adding the interagency application form and providing updated information about filing for a merger. These changes are not material and are technical in nature. These changes are an administrative adjustment, and do not change, in any way, the requirements on national banks.

Comments: Comments submitted in response to this notice will be summarized in each Agency's request for OMB approval, and analyzed to determine the extent to which the collection should be modified. All comments will become a matter of public record.

Written comments are invited on:

a. Whether the information collection is necessary for the proper performance of the agencies' functions, including whether the information has practical utility;

b. The accuracy of the agencies' estimates of the burden of the information collection, including the validity of the methodology and assumptions used;

c. Ways to enhance the quality, utility, and clarity of the information to be collected;

d. Ways to minimize the burden of information collection on respondents, including through the use of automated collection techniques or other forms of information technology; and

e. Estimates of capital or start up costs and costs of operation, maintenance, and purchase of services to provide information.

Dated: November 1, 2001.
Mark J. Tenhundfeld,
Assistant Director, Legislative and Regulatory Activities Division, Office of the Comptroller of the Currency.
By order of the Board of Governors of the Federal Reserve System, January 3, 2002.
Jennifer J. Johnson,
Secretary of the Board.

Dated at Washington, D.C., this 1st day of November, 2001.
Robert E. Feldman,
Executive Secretary.

Dated: October 4, 2001.
Deborah Dakin,
Deputy Chief Counsel, Regulations and Legislation Division, Office of Thrift Supervision.

[FR Doc. 02-643 Filed 1-9-02; 8:45 am]

BILLING CODE 4810-33-P; 6210-01-P; 6714-01-P; 6720-01-P